DEPARTMENT OF ENERGY

Federal Energy Regulatory Commission

Combined Notice of Filings #1

Take notice that the Commission received the following electric rate filings:

Docket Numbers: ER19-1409-005.

Applicants: Birdsboro Power LLC.

Description: Compliance filing: Informational Filing Pursuant to Schedule 2 of the PJM OATT & Request for Waiver to be effective N/A.

Filed Date: 3/18/20.

Accession Number: 20200318-5024.

Comments Due: 5 p.m. ET 4/8/20.

Docket Numbers: ER19-2282-001.

Applicants: New York Independent System Operator, Inc.

Description: Compliance filing: Establish Effective Date for M2M Entitlement Rules to be effective 4/7/2020.

Filed Date: 3/18/20.

Accession Number: 20200318-5099.

Comments Due: 5 p.m. ET 4/8/20.

Docket Numbers: ER20-1324-000.

Applicants: PJM Interconnection, L.L.C.

Description: § 205(d) Rate Filing: Amendment to ISA No. 1727, Queue No. Z1-097 (consent) to be effective 12/9/2014.

Filed Date: 3/17/20.

Accession Number: 20200317-5132.

Comments Due: 5 p.m. ET 4/7/20.

Docket Numbers: ER20-1331-000.

Applicants: Indiana Michigan Power Company, PJM Interconnection, L.L.C.

Description: § 205(d) Rate Filing: AEPSC on behalf of Indiana Michigan Power Company submits ILDSA, SA No. 1453 to be effective 4/1/2020.

Filed Date: 3/17/20.

Accession Number: 20200317-5156.

Comments Due: 5 p.m. ET 4/7/20.

Docket Numbers: ER20-1333-000.

Applicants: Public Service Company of Colorado.

Description: § 205(d) Rate Filing: OATT_PSC-LSCP-BigHornS1-GI-2019-6-PLGIA-572-0.0.0 to be effective 3/19/2020.

Filed Date: 3/18/20.

Accession Number: 20200318-5025.

Comments Due: 5 p.m. ET 4/8/20.

Docket Numbers: ER20-1334-000.

Applicants: ITC Midwest LLC.

Description: § 205(d) Rate Filing: NSP Medford Junction CIAC Agreement to be effective 5/18/2020.

Filed Date: 3/18/20.

Accession Number: 20200318-5077.

Comments Due: 5 p.m. ET 4/8/20.

Docket Numbers: ER20-1335-000.

Applicants: PacifiCorp.

Description: § 205(d) Rate Filing: OATT Revised Attachment H-1 (Rev Depreciation Rates 2020) to be effective 6/1/2020.

Filed Date: 3/18/20.

Accession Number: 20200318-5087.

Comments Due: 5 p.m. ET 4/8/20.

Docket Numbers: ER20-1336-000.

Applicants: PJM Interconnection, L.L.C.

Description: § 205(d) Rate Filing: Revisions to OA re: Confidentiality Provisions to be effective 5/18/2020.

Filed Date: 3/18/20.

Accession Number: 20200318-5096.

Comments Due: 5 p.m. ET 4/8/20.

Docket Numbers: ER20-1338-000.

Applicants: King Plains Wind Project, LLC.

Description: Baseline eTariff Filing: Application for Market-Based Rate Authorization, Request for Related Waivers to be effective 5/18/2020.

Filed Date: 3/18/20.

Accession Number: 20200318-5106.

Comments Due: 5 p.m. ET 4/8/20.

Take notice that the Commission received the following qualifying facility filings:

Docket Numbers: QF20-727-000.

Applicants: Siouxland Ethanol, LLC.

Description: Form 556 of Siouxland Ethanol, LLC.

Filed Date: 3/16/20.

Accession Number: 20200316-5181.

Comments Due: Non-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2020.
Nathaniel J. Davis, Sr.,
Deputy Secretary.

[FR Doc. 2020-06126 Filed 3-23-20; 8:45 am]

BILLING CODE 6717-01-P